DEPARTMENT OF THE INTERIOR

Bureau of Land Management

[AR-910-0777-XP-241A]

State of Arizona Resource Advisory Council Meeting

AGENCY: Bureau of Land Management, Interior.

ACTION: Arizona Resource Advisory Council Meeting notice.

SUMMARY: This notice announces a meeting and tour of the Arizona Resource Advisory Council (RAC).

The business meeting will be held on January 25, 2005, at the Bureau of Land Management National Training Center located at 9828 North 31st Avenue, Phoenix, Arizona. It will begin at 9 a.m. and conclude at 4 p.m. The agenda items to be covered include: Review of the October 27, 2004, Meeting Minutes; BLM State Director's Update on Statewide Issues; RAC Orientation on BLM Programs and Arizona BLM Priorities, Presentations on Transportation and Rights-of-Way, and Collecting and Interpreting Rangeland Health Monitoring Data; Arizona Land Use Planning Updates; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11:30 a.m. on January 25, 2005, for any interested publics who wish to address the Council.

FOR FURTHER INFORMATION CONTACT: Deborah Stevens, Bureau of Land Management, Arizona State Office, 222 North Central Avenue, Phoenix, Arizona 85004-2203, (602) 417-9215.

Elaine Y. Zielinski,
Arizona State Director.

[FR Doc. 04-28381 Filed 12-27-04; 8:45 am]

BILLING CODE 4130-32-M